DEPARTMENT OF ENERGY

Federal Energy Regulatory Commission

Combined Notice of Filings #1

Take notice that the Commission received the following electric rate filings:

Docket Numbers: ER10-2854-003.

Applicants: ConocoPhillips Company.

Description: Triennial Market Power Analysis for Northwest Region of ConocoPhillips Company.

Filed Date: 12/12/22.

Accession Number: 20221212-5241.

Comment Date: 5 p.m. ET 2/10/23.

Docket Numbers: ER22-1841-001.

Applicants: Golden Spread Electric Cooperative, Inc.

Description: Compliance filing: 676-J Order First Compliance to be effective 12/31/9998.

Filed Date: 12/13/22.

Accession Number: 20221213-5067.

Comment Date: 5 p.m. ET 1/3/23.

Docket Numbers: ER22-2525-000.

Applicants: Gridmatic Inc.

Description: Refund Report of Gridmatic Inc.

Filed Date: 12/12/22.

Accession Number: 20221212-5242.

Comment Date: 5 p.m. ET 1/2/23.

Docket Numbers: ER22-2762-001.

Applicants: Northwest Power Pool.

Description: Tariff Amendment: Response to Deficiency Letter to be effective 1/1/2023.

Filed Date: 12/12/22.

Accession Number: 20221212-5158.

Comment Date: 5 p.m. ET 1/2/23.

Docket Numbers: ER23-611-000.

Applicants: Northern Indiana Public Service Company LLC., Northern Indiana Public Service.

Description: § 205(d) Rate Filing: Plymouth CIAC Agreement to be effective 1/1/2023.

Filed Date: 12/12/22.

Accession Number: 20221212-5148.

Comment Date: 5 p.m. ET 1/2/23.

Docket Numbers: ER23-612-000.

Applicants: AEP Texas Inc.

Description: § 205(d) Rate Filing: AEPTX-Starr Solar Ranch 1 1st A&R GIA to be effective 12/6/2022.

Filed Date: 12/13/22.

Accession Number: 20221213-5037.

Comment Date: 5 p.m. ET 1/3/23.

Docket Numbers: ER23-613-000.

Applicants: PacifiCorp.

Description: § 205(d) Rate Filing: Tri-State, Empire Const Agmt at Pinto (Rev 3) to be effective 2/12/2023.

Filed Date: 12/13/22.

Accession Number: 20221213-5048.

Comment Date: 5 p.m. ET 1/3/23.

Docket Numbers: ER23-614-000.

Applicants: Niagara Mohawk Power Corporation, New York Independent System Operator, Inc.

Description: Tariff Amendment: Niagara Mohawk Power Corporation submits tariff filing per 35.15: Niagara Mohawk Notice of Cancellation: CRA with Solvay (SA No. 1810) to be effective 2/12/2023.

Filed Date: 12/13/22.

Accession Number: 20221213-5050.

Comment Date: 5 p.m. ET 1/3/23.

Docket Numbers: ER23-615-000.

Applicants: PJM Interconnection, L.L.C.

Description: § 205(d) Rate Filing: Original NSA, SA No. 6719; Queue No. AF1-022 to be effective 11/28/2022.

Filed Date: 12/13/22.

Accession Number: 20221213-5071.

Comment Date: 5 p.m. ET 1/3/23.

Docket Numbers: ER23-616-000.

Applicants: Alabama Power Company, Georgia Power Company, Mississippi Power Company.

Description: Tariff Amendment: Alabama Power Company submits tariff filing per 35.15: Pinewood Solar LGIA Termination Filing to be effective 12/13/2022.

Filed Date: 12/13/22.

Accession Number: 20221213-5093.

Comment Date: 5 p.m. ET 1/3/23.

Docket Numbers: ER23-617-000.

Applicants: Alabama Power Company, Georgia Power Company, Mississippi Power Company.

Description: Tariff Amendment: Alabama Power Company submits tariff filing per 35.15: Thundering Springs Solar LGIA Termination Filing to be effective 12/13/2022.

Filed Date: 12/13/22.

Accession Number: 20221213-5096.

Comment Date: 5 p.m. ET 1/3/23.

Docket Numbers: ER23-618-000.

Applicants: Sandy Ridge Wind 2, LLC.

Description: Initial rate filing: Application for Market-Based Rate, Waivers and Authority to be effective 4/1/2023.

Filed Date: 12/13/22.

Accession Number: 20221213-5107.

Comment Date: 5 p.m. ET 1/3/23.

Docket Numbers: ER23-619-000.

Applicants: Tri-State Generation and Transmission Association, Inc.

Description: Tariff Amendment: Notice of Cancellation of Rate Schedule FERC No. 273 to be effective 2/13/2023.

Filed Date: 12/13/22.

Accession Number: 20221213-5108.

Comment Date: 5 p.m. ET 1/3/23.

Docket Numbers: ER23-620-000.

Applicants: Moss Landing Energy Storage 1, LLC.

Description: § 205(d) Rate Filing: SFA Amendment to be effective 12/14/2022.

Filed Date: 12/13/22.

Accession Number: 20221213-5123.

Comment Date: 5 p.m. ET 1/3/23.

Docket Numbers: ER23-621-000.

Applicants: Moss Landing Energy Storage 2, LLC.

Description: § 205(d) Rate Filing: SFA Amendment to be effective 12/14/2022.

Filed Date: 12/13/22.

Accession Number: 20221213-5128.

Comment Date: 5 p.m. ET 1/3/23.

Docket Numbers: ER23-622-000.

Applicants: Moss Landing Energy Storage 1, LLC.

Description: § 205(d) Rate Filing: SFA 1,2,3 and Luminant to be effective 12/14/2022.

Filed Date: 12/13/22.

Accession Number: 20221213-5130.

Comment Date: 5 p.m. ET 1/3/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2022.
Debbie-Anne A. Reese,
Deputy Secretary.

[FR Doc. 2022-27449 Filed 12-16-22; 8:45 am]

BILLING CODE 6717-01-P